ELECTION ASSISTANCE COMMISSION

Sunshine Act Notice

AGENCY: United States Election Assistance Commission (EAC).

ACTION: Notice of Public Meeting Roundtable Discussion.

Date AND Time: Monday, May 5, 2008, 9 a.m.-2 p.m. (EST).

Place: United States Election Assistance Commission, 1225 New York, Ave, NW., Suite 150, Washington, DC 20005.

Agenda: The Commission will host an interdisciplinary roundtable discussion of the Technical Guidelines Committee's (TGDC) recommended Voluntary Voting System Guidelines. The discussion will be focused upon the following topics: (1) The cost implications of the proposed VVSG; (2) the effect of the new standards on the time in process for voting systems; (3) increasing the efficiency of testing; (4) the possible implementation time of the next iteration of the VVSG; (5) Innovation in voting technology; (6) Risks associated with voting system technology; (7) prioritizing the needed features of a voting system.

This meeting will be open to the public.

Person to Contact for Information: Matthew Masterson, Telephone: (202) 566-3100.

Thomas R. Wilkey,
Executive Director, U.S. Election Assistance Commission.

[FR Doc. E8-9753 Filed 5-5-08; 8:45 am]

BILLING CODE 6820-KF-M